DEPARTMENT OF COMMERCE

International Trade Administration

[A-533-838]

Carbazole Violet Pigment 23 from India: Final Results of Antidumping Duty Administrative Review

AGENCY: Import Administration, International Trade Administration, Department of Commerce.

SUMMARY: On December 22, 2009, the Department of Commerce published the preliminary results of the administrative review of the antidumping duty order on carbazole violet pigment 23 (CVP 23) from India. The review covers exports of this merchandise to the United States by Alpanil Industries (Alpanil) for the period December 1, 2007, through November 30, 2008. We gave interested parties an opportunity to comment on the preliminary results. Based on our analysis of the comments received from interested parties, we have modified the margin calculation. The final weighted-average margin is listed below in the Final Results of Review section of this notice.

DATES: Effective Date: July 1, 2010.

FOR FURTHER INFORMATION CONTACT: Jerrold Freeman at (202) 482-0180 or Richard Rimlinger at (202) 482-4477, AD/CVD Operations, Office 5, Import Administration, International Trade Administration, U.S. Department of Commerce, 14th Street and Constitution Avenue, NW., Washington, DC 20230.

SUPPLEMENTARY INFORMATION:

Background

On December 22, 2009, the Department of Commerce (the Department) published the preliminary results of review on CVP 23 from India and invited interested parties to comment. See Carbazole Violet Pigment 23 from India: Preliminary Results of Antidumping Duty Administrative Review, 74 FR 68038 (December 22, 2009). On January 21, 2010, Alpanil, the sole respondent, filed a case brief in which the company raised two issues. On January 26, 2010, the petitioners ¹ filed a rebuttal brief. We did not receive a request for a hearing.

¹ Nation Ford Chemical Company and Sun Chemical Corporation.

The period of review is December 1, 2007, through November 30, 2008. We have conducted this review in accordance with section 751(a) of the Tariff Act of 1930 (the Act).

Scope of the Order

The merchandise subject to the antidumping duty order is CVP 23 identified as Color Index No. 51319 and Chemical Abstract No. 6358-30-1, with the chemical name of diindolo [3,2-b:3′,2′-m] ² triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the order. The merchandise subject to the antidumping duty order is classifiable under subheading 3204.17.90.40 of the Harmonized Tariff Schedule of the United States (HTSUS). Although the HTSUS subheadings are provided for convenience and customs purposes, our written description of the scope of the order is dispositive.

² The bracketed section of the product description, [3,2-b:3′,2′-m], is not business-proprietary information. In this case, the brackets are simply part of the chemical nomenclature. See Notice of Amended Final Determination of Sales at Less Than Fair Value and Antidumping Duty Order: Carbazole Violet Pigment 23 From India, 69 FR 77988 (December 29, 2004) (Antidumping Duty Order).

Analysis of the Comments Received

All issues raised in the case and rebuttal briefs by interested parties to this review are addressed in the Issues and Decision Memorandum (Decision Memo) from Acting Deputy Assistant Secretary John M. Andersen to Acting Deputy Assistant Secretary Paul Piquado dated concurrently with this notice, which is hereby adopted by this notice. A list of the issues which parties have raised and to which we have responded in the Decision Memo is attached to this notice as an Appendix. The Decision Memo, which is a public document, is on file in the Central Records Unit, main Department of Commerce building, Room 1117, and is accessible on the Web at http://ia.ita.doc.gov/frn/index.html. The paper copy and electronic version of the Decision Memo are identical in content.

Changes Since the Preliminary Results

As a result of our analysis of the comments, we have adjusted U.S. price by the export-subsidy countervailing-duty rate of 7.79 percent in accordance with section 772(c)(1)(C) of the Act. For more information, see the Decision Memo at Comment 1.

Final Results of Review

As a result of our review, we determine that a margin of 58.90 percent exists for Alpanil for the period December 1, 2007, through November 30, 2008.

Assessment Rates

The Department shall determine, and CBP shall assess, antidumping duties on all appropriate entries of merchandise produced and/or exported by Alpanil. In accordance with 19 CFR 351.212(b)(1), we will issue importer-specific assessment instructions for entries of subject merchandise during the period of review.

We divided the total dumping margins for each importer by the total number of units Alpanil sold to that importer. We will direct CBP to assess the resulting per-unit dollar amount against each unit of merchandise on each of that importer's entries during the period of review.

The Department clarified its “automatic assessment” regulation on May 6, 2003. This clarification will apply to entries of subject merchandise during the period of review produced by Alpanil for which it did not know its merchandise was destined for the United States. In such instances, we will instruct CBP to liquidate any unreviewed entries at the all-others rate if there is no rate for the intermediate company(ies) involved in the transaction. For a full discussion of this clarification, see Antidumping and Countervailing Duty Proceedings: Assessment of Antidumping Duties, 68 FR 23954 (May 6, 2003).

The Department intends to issue appropriate assessment instructions directly to CBP 15 days after publication of these final results of review.

Cash-Deposit Requirements

The following deposit requirements will be effective upon publication of this notice of final results of administrative review for all shipments of CVP 23 entered, or withdrawn from warehouse, for consumption on or after the publication date of the final results, as provided by section 751(a)(1) and (a)(2)(C) of the Act: (1) The cash-deposit rate for Alpanil will be 58.90 percent; (2) if the exporter is not a firm covered in this review, a previous review, or the less-than-fair-value investigation but the manufacturer is, the cash-deposit rate will be the rate established for the most recent period for the manufacturer of the merchandise; (3) if neither the exporter nor the manufacturer has its own rate, the cash-deposit rate will be 27.48 percent, the all-others rate published in the Antidumping Duty Order, 69 FR at 77989. These deposit requirements shall remain in effect until further notice.

Notification to Importers

This notice serves as a final reminder to importers of their responsibility under 19 CFR 351.402(f) to file a certificate regarding the reimbursement of antidumping duties prior to liquidation of the relevant entries during this period of review. Failure to comply with this requirement could result in the Department's presumption that reimbursement of antidumping duties occurred and the subsequent assessment of doubled antidumping duties. See 19 CFR 351.402(f)(3).

Notification Regarding APOs

This notice also serves as a reminder to parties subject to administrative protective order (APO) of their responsibility concerning the disposition of proprietary information disclosed under APO as explained in the APO itself. See 19 CFR 351.305(a)(3). Timely written notification of the destruction of APO materials or conversion to judicial protective order is hereby requested. Failure to comply with the regulations and terms of an APO is a sanctionable violation.

We are publishing these final results of administrative review and notice in accordance with sections 751(a)(1) and 777(i)(1) of the Act.

Dated: June 25, 2010.
Paul Piquado,
Acting Deputy Assistant Secretary for Import Administration.

Appendix

1. Countervailing-Duty Offset.

2. Model-Match Methodology.

[FR Doc. 2010-16091 Filed 6-30-10; 8:45 am]

BILLING CODE 3510-DS-P